GENERAL SERVICES ADMINISTRATION

Notice of Intent To Prepare an Environmental Impact Statement for the Lease/Construction of a Central Records Complex in Winchester, Virginia

AGENCY: Public Buildings Service, GSA.

ACTION: Notice of Intent with Request for Comments

SUMMARY: The General Services Administration (GSA) announces its intent to prepare an Environmental Impact Statement (EIS) under the National Environmental Policy Act (NEPA) of 1969 to assess the potential impacts of the construction of a Central Records Complex in the delineated area of Frederick County, Virginia.

At the request of the Federal Bureau of Investigations (FBI), the GSA is proposing to provide for lease construction of up to 947,000 rentable square feet (RSF) for the creation of a Central Records Complex in the delineated areas of Frederick County, Virginia. The project proposes new construction of a records storage facility, a data center for the FBI and Department of Justice (DOJ), an administrative offices building and a common support building. This facility will consolidate the FBI's various records management activities in Washington, DC and around the country into a state-of-the-art records storage facility to comply with National Archives and Records Administration (NARA) standards.

This project will provide for the consolidation of FBI's various records management activities and relieve overcrowding at existing facilities by providing 947,000 rentable square feet for approximately 1200 employees:

• Office Building 150,000 usable square feet

• Archive Building 495,000 usable square feet

• Data Centers 227,000 usable square feet

A public advertisement was placed in the local newspapers and Fed BizOps on September 20, 2005 expressing the government's interest in acquiring an assignable land option for this project. The following three sites will serve as alternatives in the Environmental Impact Statement, including the No Action Alternative:

Alternative 1: Construct a Central Records Complex at 831 Shady Elm Road, Winchester, Virginia.

Alternative 2:Construct a Central Records Complex at the Carpers Valley Golf course (Route 50), Winchester,Virginia.

Alternative 3: Construct a Central Records Complex at 200-299 Woodbine Rd, Clear Brook, Virginia.

No Action Alternative: Under the no action alternative, the Central Records Facility will not be constructed in the delineated area of Frederick County, VA.

This alternative is included to provide a basis for comparison to the action alternatives described above as required by NEPA regulations (40 CFR 1002.14(d)).

GSA invites individuals, organizations and agencies to submit comments concerning the scope of the EIS.

The public scoping period starts with the publication of this notice in the Federal Register and will continue for forty five (45) days from the date of this notice. GSA will consider all comments received or postmarked by that date in defining the scope of the EIS.

GSA expects to issue a Draft EIS in Spring 2006 at which time its availability will be announced in the Federal Register and local media. A public comment period will commence upon publication of the Notice of Availability. The GSA will consider and respond to comments received on the Draft EIS in preparing the Final EIS.

DATES: Interested parties should submit written comments on or before January 6, 2006.

ADDRESSES: Written comments or suggestions concerning the scope of the EIS should be sent to Katrina M. Scarpato, Regional Environmental Quality Advisor (REQA), U.S. General Services Administration, 20 North 8th Street, 8th Floor, Philadelphia, PA 19107; Fax (215) 446-6153, email Katrina.scarpato@gsa.gov.

FOR FURTHER INFORMATION CONTACT: Katrina M. Scarpato by phone at (215) 446-4651 or by email at Katrina.scarpato@gsa.gov.

Public Scoping Meetings: A public scoping meeting will provide the public with an opportunity to present comments, ask questions, and discuss concerns regarding the scope of the EIS with GSA representatives. GSA will hold a public scoping meeting in December 2005 in Winchester, VA. Once established, the specific date for this meeting will be published in the local media.

Dated: November 17, 2005
Linda Chero
Acting Regional Administrator,Mid-Atlantic Region.

[FR Doc. 05-23112 Filed 11-21-05; 8:45 am]

BILLING CODE 6820-A6-S